DEPARTMENT OF COMMERCE

National Oceanic and Atmospheric Administration

XRIN 0648-XB20

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a public meeting of the Ad Hoc Review Panel for Red Drum.

DATES: The Ad Hoc Review Panel for Red Drum meeting will convene at 1 p.m. on Monday, July 23, 2007 and conclude no later than 3 p.m. on Tuesday, July 24, 2007.

ADDRESSES: The meeting will be held at the W New Orleans, 333 Poydras St., New Orleans, LA 70130; telephone: (504) 525-9444.

Council address: Gulf of Mexico Fishery Management Council, 2203 North Lois Avenue, Suite 1100, Tampa, FL 33607.

FOR FURTHER INFORMATION CONTACT: Wayne Swingle, Fishery Executive Director, telephone: (813) 348-1630.

SUPPLEMENTARY INFORMATION: The Panel will be convened to consider the Council's change to assess the availability of the information needed to conduct a SEDAR stock assessment for red drum and to propose data collection activities for that information that should be carried out in 2008. Representatives of the five gulf states will summarize fisheries dependent and independent data available from their state. The federal representatives will summarize the data available through their agency. The Panel will discuss other issues related to the stock assessment and SEDAR process.

Although other non-emergency issues not on the agenda may come before the Panel for discussion, in accordance with the Magnuson-Stevens Fishery Conservation and Management Act (Magnuson-Stevens Act), those issues may not be the subject of formal action during these meetings. Actions of the Ad Hoc Review Panel for Red Drum will be restricted to those issues specifically identified in the agenda and any issues arising after publication of this notice that require emergency action under section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Tina Trezza at the Council (see ADDRESSES) at least 5 working days prior to the meeting.

Dated: June 28, 2007.
Tracey L. Thompson,
Acting Director, Office of Sustainable Fisheries, National Marine Fisheries Service.

[FR Doc. E7-12867 Filed 7-2-07; 8:45 am]

BILLING CODE 3510-22-S